DEPARTMENT OF COMMERCE

National Oceanic and Atmospheric Administration

[I.D. 080800B]

ICCAT Advisory Committee; Summer Workshop

AGENCY: National Marine Fisheries Service (NMFS), National Oceanic and Atmospheric Administration (NOAA), Commerce.

ACTION: Notice of meeting.

SUMMARY: The Advisory Committee to the U.S. Section to the International Commission for the Conservation of Atlantic Tunas (ICCAT) announces a September 2000 workshop on compliance and rebuilding issues. More information on the workshop can be found in the DATES and SUPPLEMENTARY INFORMATION sections of this notice.

DATES: The Advisory Committee Workshop on Compliance and Rebuilding will be held from 11:30 a.m. to 5 p.m. on September 12, 2000, and from 9:30 a.m. to 11:30 a.m. on September 13, 2000.

ADDRESSES: The workshop will be held at the Holiday Inn Silver Spring, located at 8777 Georgia Avenue, Silver Spring, Maryland 20910.

FOR FURTHER INFORMATION CONTACT: Patrick E. Moran or Kimberly Blankenbeker at 301-713-2276.

SUPPLEMENTARY INFORMATION: At its September workshop, the Advisory Committee will consider compliance and stock rebuilding issues in preparation for the upcoming ICCAT annual meeting, to be held on November 13-20, 2000, in Marrakech, Morocco. Given the sensitive nature of the issues to be discussed, the Advisory Committee will be in executive session for the duration of the workshop. No sessions of the workshop, therefore, will be open to the public.

Special Accommodations

The meeting locations are physically accessible to people with disabilities. Requests for sign language interpretation or other auxiliary aids should be directed to Patrick E. Moran at (301) 713-2276 at least 5 days prior to the meeting date.

Dated: August 10, 2000.
Bruce C. Morehead,
Acting Director, Office of Sustainable Fisheries, National Marine Fisheries Service.

[FR Doc. 00-20706 Filed 8-15-00; 8:45 am]

BILLING CODE 3510-22-F